DEPARTMENT OF COMMERCE

Foreign-Trade Zones Board

[Order No. 1304]

Expansion of Foreign-Trade Zone 31 Granite City, IL

Pursuant to its authority under the Foreign-Trade Zones Act of June 18, 1934, as amended (19 U.S.C. 81a-81u), the Foreign-Trade Zones Board (the Board) adopts the following Order:

Whereas, the Tri-City Regional Port District, grantee of Foreign-Trade Zone 31, submitted an application to the Board for authority to expand FTZ 31 to include three sites at the Gateway Commerce Center in Madison County (Site 5—2,254 acres), River's Edge Industrial Park in Granite City (Site 6—458 acres), and MidAmerica Airport in St. Clair County (Site 7—3,851 acres), Illinois, and to formally delete Site 2 from the zone project, within/adjacent to the St. Louis, Missouri, Customs port of entry (FTZ Docket 16-2003; filed 3/14/03);

Whereas, notice inviting public comment was given in the Federal Register (68 FR 14191, 3/24/03) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 31 is approved, subject to the Act and the Board's regulations, including Section 400.28, and further subject to the Board's standard 2,000-acre activation limit for the overall zone project.

Signed at Washington, DC, this 3rd day of October, 2003.
James J. Jochum,
Assistant Secretary of Commerce for Import Administration, Alternate Chairman, Foreign-Trade Zones Board.

[FR Doc. 03-25909 Filed 10-10-03; 8:45 am]

BILLING CODE 3510-DS-P